DEPARTMENT OF THE INTERIOR

National Park Service

[NPS-NERO-GATE-15188; PPNEGATEB0, PPMVSCS1Z.Y00000]

Gateway National Recreation Area Fort Hancock 21st Century Advisory Committee

AGENCY: National Park Service, Interior.

ACTION: Notice of renewal.

SUMMARY: The Secretary of the Interior is giving notice of renewal of the Gateway National Recreation Area Fort Hancock 21st Century Advisory Committee. The Committee provides advice on the development of a specific reuse plan and on matters relating to the future uses of the Fort Hancock Historic Landmark District within the Sandy Hook Unit of Gateway National Recreation Area.

FOR FURTHER INFORMATION CONTACT: Robert A. Vohden, Special Park and Land Use Manager, Gateway National Recreation Area, Public Affairs Office, 210 New York Avenue, Staten Island, New York 10305, (718) 354-4606.

SUPPLEMENTARY INFORMATION: In accordance with the provisions of the Federal Advisory Committee Act (FACA), as amended (5 U.S.C. Appendix 1-16) and with the concurrence of the General Services Administration, the Department of the Interior is announcing the renewal of an advisory committee for the Gateway National Recreation Area Fort Hancock Historic Landmark District. The Committee is a discretionary advisory committee established under the authority of the Secretary of the Interior.

The Committee provides guidance to the National Park Service in developing a plan for reuse of more than 30 historic buildings that the NPS has determined are excess to its needs and eligible for lease under 16 U.S.C. 1 et seq., particularly 16 U.S.C. 1a-2(k), and 16 U.S.C. 470h-3, or under agreement through appropriate authorities.

The Committee will include representatives from, but not limited to, the following interest groups: The natural resource community, the business community, the cultural resource community, the real estate community, the recreation community, the education community, the scientific community, and hospitality organizations. The Committee will also consist of representatives from the following municipalities: The Borough of Highlands, the Borough of Sea Bright, the Borough of Rumson, Middletown Township, and Monmouth County Freeholders.

Certification Statement: I hereby certify that the renewal of the Gateway National Recreation Area Fort Hancock 21st Century Advisory Committee is necessary and in the public interest, established under the authority of the Secretary of the Interior.

Dated: April 8, 2014.
Sally Jewell,
Secretary of the Interior.

[FR Doc. 2014-10794 Filed 5-9-14; 8:45 am]

BILLING CODE 4310-WV-P